FEDERAL COMMUNICATIONS COMMISSION

[FRS 16529]

Open Commission Meeting, Friday, February 28, 2020

February 21, 2020.

The Federal Communications Commission will hold an Open Meeting on the subjects listed below on Friday, February 28, 2020 which is scheduled to commence at 10:30 a.m. in Room TW-C305, at 445 12th Street SW, Washington, DC.

Item No. | Bureau | Subject
1 | Wireless Tele-Communications | Title: Expanding Flexible Use of the 3.7 to 4.2 GHz Band (GN Docket No. 18-122).
|  | Summary: The Commission will consider a Report and Order and Proposed Order of Modification that would reform the use of the 3.7-4.2 GHz band, also known as the C-band, to promote U.S. leadership in the next generation of wireless services, including fifth-generation (5G) wireless and other advanced spectrum-based services, and close the digital divide.
2 | Economics & Analytics | Title: Auction of Flexible-Use Service Licenses in the 3.7-3.98 GHz Band for the Next-Generation Wireless Services (AU Docket No. 20-25).
|  | Summary: The Commission will consider a Public Notice that would seek comment on procedures for the auction of new flexible-use overlay licenses in the 3.7-3.98 GHz band (Auction 107) for Next Generation Wireless Services.
3 | Economics & Analytics | Title: Auction of Priority Access Licenses for the 3550-3650 MHz Band (AU Docket No. 19-244).
|  | Summary: The Commission will consider a Public Notice that would establish application and bidding procedures for Auction 105, the auction of Priority Access Licenses in the Citizens Broadband Radio Service in the 3550-3650 MHz band.
4 | Engineering & Technology | Title: Unlicensed White Space Device Operations in the Television Bands (ET Docket No. 20-36).
|  | Summary: The Commission will consider a Notice of Proposed Rulemaking that would propose targeted changes to the white space device rules in the TV bands (channels 2-35) to provide improved broadband coverage that would benefit American consumers in rural and underserved areas.
5 | Economics & Analytics | Title: Comment Sought on Competitive Bidding Procedures and Certain Program Requirements for Rural Digital Opportunity Fund Auction (Auction 904); (AU Docket No. 20-34); (WC Docket No. 19-126); (WC Docket No. 10-90).
|  | Summary: The Commission will consider a Public Notice that would launch the process of establishing pre- and post-auction application procedures and competitive bidding procedures to allocate up to $16 billion to support the deployment of fixed broadband networks in rural America in Phase I of the Rural Digital Opportunity Fund.
6 | Media Bureau | Title: Electronic Delivery of MVPD Communications (MB Docket No. 17-317); Modernization of Media Regulation Initiative (MB Docket No. 17-105).
|  | Summary: The Commission will consider a Report and Order that would modernize the carriage election notice provisions in the FCC's Rules for low-power TV and noncommercial educational translator stations, which are not required to maintain online public inspection files.
7 | Media Bureau | Title: Amendment of Commission Rule Requiring Records of Cable Operator Interests in Video Programming (MB Docket No. 20-35); Modernization of Media Regulation Initiative (MB Docket No. 17-105).
|  | Summary: The Commission will consider a Notice of Proposed Rulemaking that would seek comment on whether to eliminate or modify the requirement in the FCC's Rules that cable operators maintain records in their online public inspection files regarding the nature and extent of their attributable interests in video programming services.
8 | Public Safety & Homeland Security | Title: Amendments to Part 4 of the Commission's Rules Concerning Disruptions to Communications (PS Docket No. 15-80); Petition of California Public Utilities Commission and the People of the State of California for Rulemaking on States' Access to the Network Outage Reporting System (“NORS”) and a Ruling Granting California Access to NORS.
|  | Summary: The Commission will consider a Second Further Notice of Proposed Rulemaking that would provide state and federal agencies with read-only access to communications outage data for public safety purposes while also preserving the confidentiality of that data.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the internet from the FCC Live web page at www.fcc.gov/live.

Marlene Dortch,
Secretary.

[FR Doc. 2020-04312 Filed 3-2-20; 8:45 am]

BILLING CODE 6712-01-P